ENVIRONMENTAL PROTECTION AGENCY

[FRL-6526-1]

Proposed Prospective Purchaser Agreement Pursuant to the Comprehensive Environmental Response, Compensation and Liability Act of 1980 (CERCLA), as Amended by the Superfund Amendments and Reauthorization Act, Oronogo-Duenweg Mining Belt Superfund Site, Jasper County, Missouri

AGENCY: Environmental Protection Agency.

ACTION: Notice; request for public comment.

SUMMARY: Notice is hereby given that a proposed prospective purchaser agreement associated with the Oronogo-Duenweg Mining Belt Superfund Site, located in Jasper County, Missouri, was executed by the Agency on December 29, 1999. The Site is part of an inactive lead and zinc mining area known as the Tri-State Mining District. The Site encompasses approximately 270 square miles, with large volumes of abandoned and uncontrolled mining wastes spread throughout the Site. The mining wastes at the Site contain elevated levels of lead, which is a hazardous substance as defined by the Comprehensive Environmental Response, Compensation and Liability Act of 1986 (“CERCLA”). The Prospective Purchaser Agreement would resolve certain potential EPA claims under CERCLA against the Missouri Highway Transportation Commission (“MHTC”), the prospective purchaser (“the purchaser”).

The settlement requires the purchaser to utilize large quantities of materials from past mining activities as fill, which would become part of the construction of the “Rangeline Bypass.” The purchaser must ensure that upon completion of construction, clean cover is in place over all mine materials. The purchaser will handle the mine material in accordance with a work plan that is designed to ensure that contamination is not spread during construction. The purchaser agrees to provide to EPA access to the property. EPA may at any time conduct an inspection of the property, including sampling, to ensure the work is being performed in accordance with the work plan.

For thirty (30) days following the date of publication of this document, the Agency will receive written comments relating to the proposed settlement.

DATES: Written comments must be submitted on or before February 18, 2000.

ADDRESSES: Comments should reference the “Oronogo-Duenweg Mining Belt Superfund Site” and should be forwarded to D. Mark Doolan, Remedial Project Manager, U.S. Environmental Protection Agency, Region VII, 901 North 5th Street, Kansas City, Kansas 66101. A copy of the proposed agreement may be obtained from Venessa Cobbs (913) 551-7630.

FOR FURTHER INFORMATION CONTACT: David Cozad, Senior Associate Regional Counsel, United States Environmental Protection Agency, Region VII, 901 North 5th Street, Kansas City, Kansas 66101, (913) 551-7587.

Dated: January 4, 2000.
Dennis Grams,
Regional Administrator, Region 7.

[FR Doc. 00-1213 Filed 1-18-00; 8:45 am]

BILLING CODE 6560-50-P